DEPARTMENT OF LABOR

Employment and Training Administration

Comment Request for the Extension With No Revisions of the Information Collection for Trade Adjustment Assistance (TAA) Reserve Funding Request Form (OMB Control Number 1205-0275)

AGENCY: Employment and Training Administration (ETA), Department of Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)]. This program helps ensure that requested data can be provided in the desired format, reporting burden (time and financial resources) is minimized, collection instruments are clearly understood, and the impact of collection requirements on respondents can be properly assessed.

Currently, the ETA is soliciting comments concerning the proposed extension, with no revisions, of data collections using the ETA Form 9117, Trade Adjustment Assistance (TAA) Reserve Funding Request Form (OMB Control Number 1205-0275). The current expiration date is May 31, 2016.

DATES: Written comments must be submitted to the office listed in the addresses section below on or before May 10, 2016.

ADDRESSES: Submit written comments to Frankie Russell, Office of Trade Adjustment Assistance, Room N-5428, Employment and Training Administration, U.S. Department of Labor, 200 Constitution Avenue NW., Washington, DC 20210. Telephone number: 202-693-2738 (this is not a toll-free number). Individuals with hearing or speech impairments may access the telephone number above via TTY by calling the toll-free Federal Information Relay Service at 1-877-889-5627 (TTY/TDD). Fax: 202-693-3584. Email: Russell.Frankie@dol.gov. A copy of the proposed information collection request (ICR) can be obtained by contacting the office listed above.

SUPPLEMENTARY INFORMATION:

I. Background

The administration of the Trade Act of 1974, as amended by the Trade Adjustment Assistance Extension Act of 2015 (TAAEA 2015), is the responsibility of the Secretary of Labor. Through agreements (Governor-Secretary Agreements) established with states, states serve as agents of the Department in making payments to workers who have lost their jobs as a result of foreign trade and are certified eligible for the TAA Program. Section 241 of the Trade Act provides that: “the Secretary shall from time to time certify to the Secretary of the Treasury for payment to each cooperating state the sums necessary to enable such State as agents of the United States to make payments provided for by this chapter.”

As such, states may request reserve funds before the Final Distribution to cover the costs of Training, Job Search Allowances and Relocation Allowances, Employment and Case Management Services and State Administration of these benefits. Reserve funds will be distributed to states in accordance with 20 CFR 618.920 on an as-needed basis in response to reserve fund requests to provide monies to those states that experience large, unexpected layoffs or otherwise have training needs that are not met by their initial allocation. These funds must be requested using the Form ETA-9117 (OMB No. 1205-0275).

II. Review Focus

The Department is particularly interested in comments which:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

III. Current Actions

Type of Review: Extension with no revisions.

Title: Investigative Data Collections for the Trade Act of 1974, as amended.

OMB Number: 1205-0275.

Affected Public: Individuals or Households, Businesses, State, Local or Tribal Governments.

Form(s): ETA 9117, Trade Adjustment Assistance (TAA) Reserve Funding Request Form (1205-0275).

Total Annual Respondents: 25.

Annual Frequency: On occasion.

Total Annual Responses: 25.

Average Time per Response: 2 Hours.

Estimated Total Annual Burden Hours: 50.

Total Annual Burden Cost for Respondents: $0.

Comments submitted in response to this comment request will be summarized and/or included in the request for Office of Management and Budget approval of the ICR; they will also become a matter of public record.

Portia Wu,
Assistant Secretary for Employment and Training, Labor.

[FR Doc. 2016-05450 Filed 3-10-16; 8:45 am]

BILLING CODE 4510-FN-P